DEPARTMENT OF TRANSPORTATION

Federal Aviation Administration

14 CFR Part 71

[Docket No. FAA-2019-0900; Airspace Docket No. 19-AWP-80]

RIN 2120-AA66

Establishment of Multiple Air Traffic Service (ATS) Routes; Hawaiian Islands

AGENCY: Federal Aviation Administration (FAA), DOT.

ACTION: Final rule.

SUMMARY: This action establishes United States Area Navigation (RNAV) Routes T-340, T-342, T-344, and T-346 in the Hawaiian Islands. These RNAV routes facilitate the movement of aircraft among the Hawaiian Islands and increase operational efficiencies to RNAV Standard Instrument Departures (SID) and RNAV Standard Terminal Arrival Routes (STAR), which enhances the air traffic capacity of the Hawaiian airports.

DATES: Effective date 0901 UTC, May 16, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of RNAV in Hawaii and promotes operational efficiencies to RNAV SID and RNAV STAR which enhances the air traffic capacity of the Hawaiian airports.

History

The FAA published an NPRM for Docket No. FAA-2019-0900 in the Federal Register (84 FR 67884; December 12, 2019), proposing to establish RNAV routes T-340, T-342, T-344, and T-346 in the Hawaiian Islands. Interested parties were invited to participate in this rulemaking effort by submitting comments on the proposal. No comments were received.

Differences From the NPRM

The NPRM published in the Federal Register (84 FR 67884; December 12, 2019), included the new waypoint (WP) MALOA, HI, WP in the route description for RNAV route T-340. This WP will not be used as a route point for T-340. The NPRM also included HLENA, HI, WP in the route description of T-340. This action changes the name of the HLENA, HI, WP to HLONO, HI, WP. The location of the HLONO, HI, WP will remain as published for HLENA, HI, WP, in the NPRM. Finally, the route points KOLEA, HI, WP and PAIKO, HI, WP listed in the NPRM for T-346 have been renamed. The new name of the KOLEA, HI, WP is KIKKI, HI, WP. The location of the KIKKI, HI, WP will remain as published for KOLEA, HI, WP, in the NPRM. The new name of the PAIKO, HI, WP, is PLACK, HI, WP. The location of the PLACK, HI, WP will remain as published for PAIKO, HI, WP, in the NPRM. Lastly, the route point NORWA, HI, WP is being removed from the route description of T-346. This route point represents a less than one degree turn and therefore is not required to be included in the route description. The updated route point names and route descriptions are incorporated in this action.

Incorporation by Reference

United States Area Navigation Routes are published in paragraph 6011 of FAA Order JO 7400.11 Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

International Civil Aviation Organization (ICAO) Considerations

As part of this action relates to the navigable airspace outside the United States 12 nautical mile territorial limit, this rule is submitted consistent with the ICAO Standards and Recommended Practices (SARPs).

Applicability of the SARPs by the FAA, in areas outside domestic airspace of the United Sates is governed by Annex 11 to the Convention on International Civil Aviation. Annex 11's purpose, together with Annex 2, is to ensure that international civil aviation is carried out under uniform conditions designed to improve the safety and efficiency of air operations.

The SARPs in Annex 11 apply in those parts of the airspace under the jurisdiction of a Contracting State wherein air traffic services are provided and wherever a Contracting State accepts the responsibility of providing air traffic services over the high seas or in airspace of undetermined sovereignty. A Contracting State accepting such responsibility may apply the SARPs to civil aircraft in a manner consistent with that adopted for airspace under its domestic jurisdiction.

Executive Order 10854 requires coordination with the Secretary of State and Secretary of Defense in the event an airspace action will wholly, or in part, affect an area outside of the United States or the overlying airspace thereof, over or in which the Federal Government of the United States, under international treaty, agreement, or other lawful arrangement, has appropriate jurisdiction or control.

Due to this action involving, in part, the designation of navigable airspace outside of the United States, the Administrator has consulted with the Secretary of State and the Secretary of Defense in accordance with the provisions of Executive Order 10854.

The Rule

This action amends 14 CFR part 71 by establishing RNAV Routes T-340, T-342, T-344, and T-346 in the Hawaiian Islands to facilitate the movement of aircraft among the Hawaiian Islands and increase operational efficiencies to current and proposed RNAV SIDs and STARs. The new RNAV routes are described below.

T-340: T-340 is a new route that extends between the NORBY, HI, Fix and the Hilo, HI (ITO), Very High Frequency Omnidirectional Range/Tactical Air Navigation (VORTAC). RNAV Route T-340 provides a route to the north of the island of Maui, avoiding turbulence from strong trade winds. Additionally, T-340 provides an alternative weather avoidance route between Oahu and the Big Island.

T-342: T-342 is a new route that extends between the KUHIO, HI, WP and the Kona HI (KOA), VORTAC. RNAV Route T-342 provides a route to the north of the island of Molokai and then turns south to the Kona VORTAC. Additionally, T-342 provides for weather avoidance.

T-344: T-344 is a new route that extends between the NAPUA, HI, Fix and the Kona, HI (KOA), VORTAC. RNAV Route T-344 provides a route along the south side of the Hawaiian Island chain. Additionally, T-344 provides a more direct routing from the island of Kauai to the Big Island.

T-346: T-346 is a new route that extends between the Lihua, HI (LIH), VORTAC and the PLACK, HI, WP. RNAV Route T-346 provides a route from the island of Kauai to the Big Island and connects to RNAV Route T-340. Additionally, T-346 supports single engine aircraft that need to stay within gliding distance to the shoreline.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing RNAV Routes T-340, T-342, T-344, and T-346 in the Hawaiian Islands, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5i, which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-340 NORBY, HI to Hilo, HI (ITO) [New]
NORBY, HI | FIX | (Lat. 21°09′18.74″ N, long. 157°31′21.71″ W)
HLONO, HI | WP | (Lat. 21°02′18.48″ N, long. 157°14′53.85″ W)
AARES, HI | WP | (Lat. 20°59′55.00″ N, long. 157°05′42.00″ W)
CHAIN, HI | FIX | (Lat. 20°58′22.78″ N, long. 156°55′32.74″ W)
WYLUA, HI | WP | (Lat. 21°05′42.50″ N, long. 156°31′38.18″ W)
BARBY, HI | FIX | (Lat. 20°51′39.55″ N, long. 155°58′47.44″ W)
LONOH, HI | WP | (Lat. 20°21′58.13″ N, long. 155°41′40.54″ W)
WAPIO, HI | FIX | (Lat. 20°11′16.63″ N, long. 155°35′33.58″ W)
VELLA, HI | FIX | (Lat. 20°07′14.35″ N, long. 155°20′53.98″ W)
ARBOR, HI | FIX | (Lat. 19°58′51.61″ N, long. 155°07′59.70″ W)
Hilo, HI (ITO) | VORTAC | (Lat. 19°43′16.86″ N, long. 155°00′39.44″ W)

* * * * *

T-342 KUHIO, HI to KONA, HI [New]
KUHIO, HI | WP | (Lat. 21°15′18.66″ N, long. 157°49′54.01″ W)
Koko Head, HI (CKH) | VORTAC | (Lat. 21°15′54.40″ N, long. 157°42′10.73″ W)
ALAEY, HI | WP | (Lat. 21°15′17.58″ N, long. 157°27′49.56″ W)
PLUMB, HI | FIX | (Lat. 21°12′42.30″ N, long. 156°36′05.35″ W)
WYLUA, HI | WP | (Lat. 21°05′42.50″ N, long. 156°31′38.18″ W)
Maui, HI (OGG) | VORTAC | (Lat. 20°54′23.30″ N, long. 156°25′15.42″ W)
MAKEN, HI | FIX | (Lat. 20°34′44.22″ N, long. 156°25′10.66″ W)
TAMMI, HI | FIX | (Lat. 20°05′33.56″ N, long. 156°02′00.51″ W)
Kona, HI (KOA) | VORTAC | (Lat. 19°43′02.06″ N, long. 156°02′41.71″ W)

* * * * *

T-344 NAPUA, HI to Kona (KOA), HI [New]
NAPUA, HI | FIX | (Lat. 21°44′10.93″ N, long. 159°14′38.56″ W)
KEOLA, HI | FIX | (Lat. 21°17′53.24″ N, long. 158°29′25.89″ W)
GECKO, HI | FIX | (Lat. 21°11′32.10″ N, long. 158°18′35.21″ W)
JULLE, HI | FIX | (Lat. 20°57′35.78″ N, long. 157°34′35.29″ W)
ZUKAH, HI | WP | (Lat. 20°15′21.03″ N, long. 156°15′26.08″ W)
Kona, HI (KOA) | VORTAC | (Lat. 19°43′02.06″ N, long. 156°02′41.71″ W)

* * * * *

T-346 Lihue, HI (LIH) to PLACK, HI [New]
Lihue, HI (LIH) | VORTAC | (Lat. 21°57′55.00″ N, long. 159°20′17.20″ W)
KIKKI, HI | WP | (Lat. 21°31′15.28″ N, long. 158°20′37.80″ W)
SHIGI, HI | FIX | (Lat. 21°18′15.11″ N, long. 158°10′17.41″ W)
KUHIO, HI | WP | (Lat. 21°15′18.66″ N, long. 157°49′54.01″ W)
NORBY, HI | FIX | (Lat. 21°09′18.74″ N, long. 157°31′21.71″ W)
MAKEN, HI | FIX | (Lat. 20°34′44.22″ N, long. 156°25′10.66″ W)
PLACK, HI | WP | (Lat. 20°16′22.29″ N, long. 155°38′27.80″ W)

* * * * *

Issued in Washington, DC, on February 21, 2024.
Frank Lias,
Manager, Rules and Regulations Group.

[FR Doc. 2024-03879 Filed 2-26-24; 8:45 am]

BILLING CODE 4910-13-P